DEPARTMENT OF THE TREASURY

Submission for OMB Review; Comment Request

February 17, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

Dates: Written comments should be received on or before March 25, 2004 to be assured of consideration.

Departmental Offices/Community Development Financial Institutions (CDFI) Fund

OMB Number: New.

Form Number: CDFI 0009.

Type of Review: New collection.

Title: Native American CDFI Assistance (NACA) Program Application.

Description: Through the Native American CDFI Assistance Program, the CDFI Fund will provide technical assistance to CDFIs already serving Native American communities as well as technical assistance to help Native American communities form new CDFIs.

Respondents: Business or other for-profit, Not-for-profit institution, State, Local or Tribal Government.

Estimated Number of Respondents: 50.

Estimated Burden Hours Per Respondent: 60 hours.

Frequency of Response: Annually.

Estimated Total Reporting Burden: 3,000 hours.

Clearance Officer: Lois K. Holland, (202) 622-1563, Departmental Offices, Room 11309, 1750 Pennsylvania Avenue, NW, Washington, DC 20220.

OMB Reviewer: Joseph F. Lackey, Jr., (202) 395-7316, Office of Management and Budget, Room 10235, New Executive Office Building, Washington, DC 20503.

Lois K. Holland,
Treasury PRA Clearance Officer.

[FR Doc. 04-3949 Filed 2-23-04; 8:45 am]

BILLING CODE 4811-16-P